Title 3—

The President

Proclamation 8015 of May 12, 2006

Suspension of Entry as Immigrants and Nonimmigrants of Persons Responsible for Policies or Actions That Threaten the Transition to Democracy in Belarus

By the President of the United States of America

A Proclamation

In light of the importance to the United States of fostering democratic institutions in Belarus in order to help the Belarusian people achieve their aspirations for democracy and to help complete the transformation to a Europe whole, free, and at peace and given the suppression of human rights and democracy in Belarus, the fraud perpetrated during the recent Belarusian presidential campaign and election, the detention of peaceful protesters in Belarus, the persistent acts of corruption by Belarusian government officials in the performance of public functions, and the continued failure of Alyaksandr Lukashenka, Belarusian government officials, and others to support the rule of law, human rights commitments, and other principles of high priority to the United States, I have determined that it is in the interest of the United States to take all available measures to restrict the international travel and to suspend the entry into the United States, as immigrants or nonimmigrants, of members of the government of Alyaksandr Lukashenka and others detailed below who formulate, implement, participate in, or benefit from policies or actions, including electoral fraud, human rights abuses, and corruption, that undermine or injure democratic institutions or impede the transition to democracy in Belarus.

NOW, THEREFORE, I, GEORGE W. BUSH, President of the United States of America, by the authority vested in me by the Constitution and laws of the United States, including section 212(f) of the Immigration and Nationality Act of 1952, 8 U.S.C. 1182(f), and section 301 of title 3, United States Code, hereby find that the unrestricted immigrant and nonimmigrant entry into the United States of persons described in section 1 of this proclamation would, except as provided for in sections 2 and 3 of this proclamation, be detrimental to the interests of the United States.

I therefore hereby proclaim that:

Section 1. The entry into the United States, as immigrants or nonimmigrants, of the following persons is hereby suspended:

(a) Members of the government of Alyaksandr Lukashenka and other persons who formulate, implement, participate in, or benefit from policies or actions, including electoral fraud, human rights abuses, or corruption, that undermine or injure democratic institutions or impede the transition to democracy in Belarus;

(b) Persons who through their business dealings with Belarusian government officials derive significant financial benefit from policies or actions, including electoral fraud, human rights abuses, or corruption, that undermine or injure democratic institutions or impede the transition to democracy in Belarus; and (c) The spouses of persons described in paragraphs (a) and (b) above.

Sec. 2. Section 1 of this proclamation shall not apply with respect to any person otherwise covered by section 1 where entry of such person would not be contrary to the interest of the United States.

Sec. 3. Persons covered by sections 1 and 2 of this proclamation shall be identified by the Secretary of State or the Secretary's designee, in his or her sole discretion, pursuant to such procedures as the Secretary may establish under section 5 of this proclamation.

Sec. 4. Nothing in this proclamation shall be construed to derogate from United States Government obligations under applicable international agreements.

Sec. 5. The Secretary of State shall have responsibility for implementing this proclamation pursuant to such procedures as the Secretary may establish.

Sec. 6. This proclamation is effective immediately and shall remain in effect until such time as the Secretary of State determines that it is no longer necessary and should be terminated, either in whole or in part. Any such termination by the Secretary of State shall be published in the Federal Register.

IN WITNESS WHEREOF, I have hereunto set my hand this twelfth day of May, in the year of our Lord two thousand six, and of the Independence of the United States of America the two hundred and thirtieth.

B

[FR Doc. 06-4651

Filed 5-15-06; 12:10 pm]

Billing code 3195-01-P